Presidential Determination No. 2004-30 of April 23, 2004

Determination and Certification under Section 8(b) of the Iran and Libya Sanctions Act

Memorandum for the Secretary of State

Pursuant to section 8(b) of the Iran and Libya Sanctions Act of 1996 (Public Law 104-172; 50 U.S.C. 1701 note), as amended (Public Law 107-24), I hereby determine and certify that Libya has fulfilled the requirements of United Nations Security Council Resolution 731, adopted January 21, 1992, United Nations Security Council Resolution 748, adopted March 31, 1992, and United Nations Security Council Resolution 883, adopted November 11, 1993.

You are authorized and directed to transmit this determination and certification to the appropriate congressional committees and to arrange for its publication in the Federal Register.

B

THE WHITE HOUSE,

Washington, April 23, 2004.

[FR Doc. 04-10337

Filed 5-4-04; 8:45 am]

Billing code 4710-10-P